DEPARTMENT OF THE INTERIOR

National Park Service

[NPS-WASO-NRNHL-DTS#-26132; PPWOCRADI0, PCU00RP14.R50000]

National Register of Historic Places; Notification of Pending Nominations and Related Actions

AGENCY: National Park Service, Interior.

ACTION: Notice.

SUMMARY: The National Park Service is soliciting comments on the significance of properties nominated before July 21, 2018, for listing or related actions in the National Register of Historic Places.

DATES: Comments should be submitted by August 28, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before July 21, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Bureau County

Hampshire Colony Congregational Church, 604 S Church St., Princeton, SG100002821

Cook County

West Pullman Elementary School, 11941 Parnell Ave., Chicago, SG100002822

Marion County

Methodist Episcopal Church, 116 E Schwartz St., Salem, SG100002823

Ogle County

Burns, Dr. William, House, 201 N Franklin Ave., Polo, SG100002824

Peoria County

Downtown Peoria Historic District, Roughly between N William Kumpf Blvd., Perry Ave., Fulton, Fayette & Water Sts., Peoria, SG100002825

Winnebago County

St. Thomas Catholic High School for Boys, 921 W State, Rockford, SG100002826

MASSACHUSETTS

Berkshire County

Fellows, General John and Mary, Farmstead, 1601 Barnum St., Sheffield, SG100002828

Hampshire County

Goshen Town Hall, 42 Main St., Goshen, SG100002829

NEW YORK

Erie County

Colored Musicians Club, 145 Broadway, Buffalo, SG100002833

Jefferson County

Taylor Flats, 550 Coffeen St., Watertown, SG100002834

Monroe County

First Congregational Church of Fairport, 26 E Church St., Fairport, SG100002835

Onondaga County

Camillus Cutlery Company Headquarters, 54 W Genessee St., Camillus, SG100002836

PENNSYLVANIA

Northampton County

Martin, C.F. & Company., 10 W North & 201 N Main Sts., Nazareth, SG100002837

TEXAS

Franklin County

Edwards, M.L. & Co. Building, 103 N Kaufman St., Mt. Vernon, SG100002840

Galveston County

Falstaff Brewery, 3302 Church St. (Ave. F), Galveston, SG100002841

Harris County

Todd, Lucie Wray and Anderson, House, 9 Shadowlawn Cir., Houston, SG100002842

Johnson County

Cleburne Downtown Historic District, Roughly bounded by Brown, Border, Harrell & Buffalo Sts., Cleburne, SG100002844

Kleberg County

Kingsville Downtown Historic District, Roughly bound by E Yoakum & E King Aves., N 12th St. & UPRR, Kingsville, SG100002845

Limestone County

Liberty Village Apartments, 215 Elwood Enge Dr. & 612 S Ellis St., Groesbeck, SG100002846

Liberty Square Apartments, Roughly bounded by N Leon, W Sabine, N Preston, W Jacinto & N Fannin Sts., Groesbeck, SG100002847

San Patricio County

Taft Public Housing Development (North), 407 through 426 Industrial St., Taft, SG100002848

Taft Public Housing Development (South), Roughly bounded by Ave. C, Walnut, 2nd & Ash Sts., Taft, SG100002849

Tarrant County

Hamilton Apartments, 2837 Hemphill St., Fort Worth, SG100002850

WEST VIRGINIA

Greenbrier County

New Deal Resources in Greenbrier State Forest Historic District, (New Deal Resources in West Virginia State Parks and Forests MPS), 1541 Cnty. Rd.6/2 (Harts Run Rd.), Caldwell vicinity, MP100002851

Marshall County

Palace of Gold, 3759 McCreary's Ridge Rd., Moundsville, SG100002852

Morgan County

New Deal Resources in Cacapon State Park Historic District, (New Deal Resources in West Virginia State Parks and Forests MPS), 818 Cacapon Lodge Drive, Berkeley Springs vicinity, MP100002853

Pocahontas County

New Deal Resources in Seneca State Forest Historic District, (New Deal Resources in West Virginia State Parks and Forests MPS), 10135 Browns Creek Rd., Dunmore vicinity, MP100002854

Randolph County

New Deal Resources in Kumbrabow State Forest Historic District, (New Deal Resources in West Virginia State Parks and Forests MPS), 219/16, Kumbrabow Rd., Huttonsville, MP100002855

WISCONSIN

Dunn County

Menomonie Omaha Depot, 700 4th St. W, Menomonie, SG100002856

Milwaukee County

Muirdale Tuberculosis Sanatorium, 10437 & 10457 Innovation Dr., Wauwatosa, SG100002857

Additional documentation has been received for the following resource:

RHODE ISLAND

Providence County

Georgiaville Historic District, 64 & 66 Farnum Pike, Smithfield vicinity, AD85002734

Nomination submitted by Federal Preservation Officer:

The State Historic Preservation Officer reviewed the following nomination and responded to the Federal Preservation Officer within 45 days of receipt of the nomination and supports listing the property in the National Register of Historic Places.

NEW JERSEY

Essex County

East Orange VA Hospital, (United States Third Generation Veterans Hospitals, 1946-1958 MPS), 385 Tremont Ave., East Orange, MP100002831

Authority: Section 60.13 of 36 CFR part 60.

Dated: July 26, 2018.
Julie H. Ernstein,
Acting Chief, National Register of Historic Places/National Historic Landmarks Program and Deputy Keeper of the National Register of Historic Places.

[FR Doc. 2018-17275 Filed 8-10-18; 8:45 am]

BILLING CODE 4312-52-P